DEPARTMENT OF ENERGY

[GDO Docket No. EA-249-E]

Application for Renewal of Authorization To Export Electric Energy; Constellation Generation Company LLC

AGENCY: Grid Deployment Office, Department of Energy.

ACTION: Notice of application.

SUMMARY: Constellation Generation Company LLC (the Applicant) has applied for renewed authorization to transmit electric energy from the United States to Canada pursuant to the Federal Power Act.

DATES: Comments, protests, or motions to intervene must be submitted on or before August 23, 2024.

ADDRESSES: Comments, protests, motions to intervene, or requests for more information should be addressed by electronic mail to .

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Delegation Order No. S1-DEL-S3-2023 and Redelegation Order No. S3-DEL-GD1-2023.

On February 10, 2022, DOE issued order No. EA-249-D to Constellation Generation Company LLC to transmit electric energy from the United States to Canada. On June 6, 2024, Constellation Generation Company LLC filed a renewal Application (Application or App.) for an additional five-year term. App. at 1.

According to the Application, Constellation Generation Company LLC is a “Pennsylvania limited liability company with its principal executive offices in Baltimore, Maryland.” Id. at 2. Constellation Generation Company LLC states it is a competitive power generator “with approximately 32,000 megawatts of owned capacity located in a number of organized markets.” Id. The Applicant further states that it “does not own or operate any transmission or distribution facilities and does not have a franchised service area.” Id. Constellation Generation Company LLC is “authorized by the Federal Energy Regulatory Commission (“FERC”) to sell energy, capacity, an ancillary service at market-based rates in the United States.” Id.

The Applicant states that it has and will continue to export on either firm or interruptible basis and “will not impair the sufficiency of the electric power supply within the United States . . . [or] will not impede or tend to impede the regional coordination of electric utility planning or operations.” Id. at 3. Constellation Generation Company LLC states it “has and will continue to make all necessary commercial arrangements and will obtain any and all other regulatory approvals required in order to affect any power exports.” Id. The Applicant further states it “has and will continue to comply with the terms and conditions contained in the authorizations issued for these cross-border facilities as well as any other export limitations that DOE may deem appropriate, consistent with DOE's orders authorizing exports of electric energy by power marketers.” Id. at 4.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at the previously provided email address in accordance with FERC Rule 214 (18 CFR 385.214).

Comments and other filings concerning Constellation Generation Company LLC's Application should be clearly marked with GDO Docket No. EA-249-E. Additional copies are to be provided directly to Todd Brecher, Constellation Generation Company, LLC, 1310 Point Street, 8th Floor, Baltimore, MD 21231, 410-470-2593, todd.brecher@constellation.com; and Buffy Pyle-Liberto, Constellation Energy Generation, LLC, 1310 Point Street, 8th Floor, Baltimore, MD 21231, 443-910-0414, b.pyle-liberto@constellation.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on July 18, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 19, 2024.
Treena V. Garrett,
Federal Register Liaison Officer, U.S. Department of Energy.

[FR Doc. 2024-16269 Filed 7-23-24; 8:45 am]

BILLING CODE 6450-01-P